DEPARTMENT OF TRANSPORTATION

Federal Motor Carrier Safety Administration

[Docket No. FMCSA-2012-0159]

Qualification of Drivers; Exemption Applications; Vision

AGENCY: Federal Motor Carrier Safety Administration (FMCSA), DOT.

ACTION: Notice of applications for exemptions; request for comments.

SUMMARY: FMCSA announces receipt of applications from 10 individuals for exemption from the vision requirement in the Federal Motor Carrier Safety Regulations. If granted, the exemptions would enable these individuals to qualify as drivers of commercial motor vehicles (CMVs) in interstate commerce without meeting the Federal vision requirement.

DATES: Comments must be received on or before July 18, 2012.

ADDRESSES: You may submit comments bearing the Federal Docket Management System (FDMS) Docket No. FMCSA-2012-0159 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 10 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Donald S. Dickerson

Mr. Dickerson, age 65, has complete loss of vision in his right eye due to a traumatic injury sustained in 2000. The best corrected visual acuity in his left eye is 20/20. Following an examination in 2011, his optometrist noted, “In my opinion Mr. Dickerson has no difficulties in performing visual tasks needed to operate a commercial vehicle.” Mr. Dickerson reported that he has driven straight trucks for 28 years, accumulating 1.7 million miles. He holds a Class A Commercial Driver's License (CDL) from West Virginia. His driving record for the last 3 years shows no crashes and no convictions for moving violations in a CMV.

Michael J. Ernst

Mr. Ernst, 61, has loss of vision in his left eye due to a traumatic injury sustained in 1972. The best corrected visual acuity in his right eye is 20/20, and in his left eye, light perception only. Following an examination in 2012, his optometrist noted, “Mr. Ernst has sufficient vision to operate a commercial vehicle.” Mr. Ernst reported that he has driven tractor-trailer combinations for 19 years, accumulating 1.1 million miles. He holds a Class A CDL from Nebraska. His driving record for the last 3 years shows no crashes and no convictions for moving violations in a CMV.

Derek L. Jones, Sr.

Mr. Jones, 50 has had an enucleation of his left eye since childhood. The best corrected visual acuity in his right eye is 20/20. Following an examination in 2012, his ophthalmologist noted, “This and the visual acuity indicates that he has normal vision in this eye thus his vision should not limit his ability to operate a commercial vehicle.” Mr. Jones reported that he has driven straight trucks for one year, accumulating 37,500 miles, and tractor-trailer combinations for 25 years, accumulating 1.5 million miles. He holds a Class A CDL from Georgia. His driving record for the last 3 years shows no crashes and no convictions for moving violations in a CMV.

Richard L. Miller

Mr. Miller, 52, has had amblyopia in his left eye since birth. The best corrected visual acuity in his right eye is 20/20, and in his left eye, 20/400. Following an examination in 2011, his optometrist noted, “It is my opinion, given Mr. Miller's life long amblyopia (decreased vision of one eye) that he is well adapted to his visual condition and makes appropriate adjustments for operating a commercial vehicle.” Mr. Miller reported that he has driven tractor-trailer combinations for 30 years, accumulating 3.9 million miles. He holds a Class A CDL from Indiana. His driving record for the last 3 years shows no crashes and no convictions for moving violations in a CMV.

James R. Morgan

Mr. Morgan, 58, has a prosthetic right eye due to a history of retinoblastoma sustained as a child. The best corrected visual acuity in his left eye is 20/20. Following an examination in 2012, his ophthalmologist noted, “The patient does have sufficient vision to meet the requirements to operate a commercial vehicle.” Mr. Morgan reported that he has driven straight trucks for 15 years, accumulating 150,000 miles, and tractor-trailer combinations for 20 years, accumulating 1,000 miles. He holds a Class C chauffer's license from Michigan. His driving record for the last 3 years shows no crashes and no convictions for moving violations in a CMV.

William C. Sanders

Mr. Sanders, 31, has optic atrophy in his right eye from a traumatic injury sustained as a child. The best corrected visual acuity in his right eye is 20/150, and in his left eye, 20/20. Following an examination in 2011, his optometrist noted, “In my opinion, patient has sufficient vision to perform the driving tasks required to operate a commercial vehicle.” Mr. Sanders reported that he has driven straight trucks for 17 years, accumulating 85,000 miles. He holds a Class B CDL from Tennessee. His driving record for the last 3 years shows no crashes and no convictions for moving violations in a CMV.

Dan P. Till

Mr. Till, 63, has had amblyopia in his left eye since childhood. The best corrected visual acuity in his right eye is 20/25 and in his left eye, 20/60. Following an examination in 2012, his ophthalmologist noted, “In my medical opinion the patient Mr. Till has sufficient corrected vision to perform the task to operate a commercial motor vehicle, and qualify for Federal Motor Carrier Safety Administration criteria.” Mr. Till reported that he has driven straight trucks for 41 years, accumulating 164,000 miles, and tractor-trailer combinations for 41 years, accumulating 4.5 million miles. He holds a Class A CDL from Texas. His driving record for the last 3 years shows no crashes and no convictions for moving violations in a CMV.

Richard D. Tucker II

Mr. Tucker, 43, has had amblyopia in his left eye since childhood. The best corrected visual acuity in his right eye, 20/20, and in his left eye, 20/80. Following an examination in 2011, his optometrist noted, “It is our opinion that Mr. Tucker has sufficient vision to operate a commercial vehicle, however, it is strongly recommended that he returns for his annual eye examination.” Mr. Tucker reported that he has driven straight trucks for 23 years, accumulating 1.8 million miles. He holds a Class A CDL from North Carolina. His driving record for the last 3 years shows no crashes and no convictions for moving violations in a CMV.

Jay A. Turner

Mr. Turner, 46, has had refractive amblyopia in his left eye since birth. The best corrected visual acuity in his right eye, 20/20, and in his left eye, 20/400. Following an examination in 2012, his optometrist noted, “Mr. Jay Turner, in our opinion, has sufficient vision to perform the driving tasks required to operate a commercial vehicle.” Mr. Turner reported that he has driven straight trucks for 4 years, accumulating 208,000 miles, and tractor-trailer combinations for 9 years, accumulating 468,000 miles. He holds a Class A CDL from Ohio. His driving record for the last 3 years shows one crash, which he was not cited for, and no convictions for moving violations in a CMV.

Jack L. Woolever

Mr. Woolever, 58, has had amblyopia in his left eye since birth. The best corrected visual acuity in his right eye is 20/30, and in his left eye, 20/400. Following an examination in 2012, his ophthalmologist noted, “I believe this patient has sufficient vision to be able to continue driving commercially.” Mr. Woolever reported that he has driven straight trucks for 5 years, accumulating 50,000 miles, and tractor-trailer combinations for 5 years, accumulating 50,000 miles. He holds a Class A CDL from Missouri. His driving record for the last 3 years shows no crashes and no convictions for moving violations in a CMV.

Request for Comments

In accordance with 49 U.S.C. 31136(e) and 31315, FMCSA requests public comment from all interested persons on the exemption petitions described in this notice. The Agency will consider all comments received before the close of business July 18, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 11, 2012.
Larry W. Minor,
Associate Administrator for Policy.

[FR Doc. 2012-14752 Filed 6-15-12; 8:45 am]

BILLING CODE 4910-EX-P